SMALL BUSINESS ADMINISTRATION

Privacy Act System of Records Entitled Small Business Investment Company Information System (SBA #40); Correction

AGENCY: U.S. Small Business Administration.

ACTION: Notice; correction.

SUMMARY: The Small Business Administration published a Privacy Act System of Records Notice in the Federal Register of September 5, 2019 proposing a new system of records SBA #40 to its inventory of records system. Notice documented that the SBA is in the process of modernizing its technology supporting the Small Business Investment Company (SBIC) program. This modernization will further enhance the SBA's regulatory oversight and risk management of the SBIC program using modern private equity and alternative investment analytics and tools.

The published notice indicated the name of the system as the “Small Business Investment Company Information System (SBICIS),” but should have indicated the correct system name of “Investment Information System (IIS).”

FOR FURTHER INFORMATION CONTACT: Marja Maddrie, 202-205-6980.

SUPPLEMENTARY INFORMATION:

Correction

In the Federal Register of September 5, 2019, in FR doc 84-172 on page 46769, in the second column under the heading “Summary”, first sentence, correct the sentence to read: “. . . entitled Investment Information System (SBA #40) to its inventory . . .”

Third column, under the heading, “System Name and Number”, correct first line sentence to read: “Investment Information System (IIS), #40.”

The changes listed below are throughout the document under the headings: “Purposes of the System” and “Policies and Practices for Retrieval of Records”.

Every reference within the document that specifies “SBICIS”, language should be updated to: “IIS.”

Marja Maddrie,
Business Operations Officer, Office of Investment and Innovation.

[FR Doc. 2020-04298 Filed 3-2-20; 8:45 am]

BILLING CODE 8026-03-P